NUCLEAR REGULATORY COMMISSION

[Docket No. 50-483]

Union Electric Company; Notice of Partial Withdrawal of Application for Amendment to Facility Operating License

The U.S. Nuclear Regulatory Commission (the Commission) has granted the request of Union Electric Company (the licensee) to partially withdraw its June 27, 2003, application for proposed amendment to Facility Operating License No. NPF-30 for the Callaway Plant, Unit 1, located in Callaway County, Missouri.

The request for amendment to the operating license in the application dated June 27, 2003, would allow plant modifications in order to facilitate maintenance on the replacement steam generators (SGs) to be installed in Refueling Outage (RO) 14 (Fall 2005). The proposed modifications (1) replace the existing sludge lance platforms with new platforms to provide a larger platform area around each SG, and (2) cut a permanent access opening through the secondary shield wall to improve access to the sludge lance platforms, which are to be done in RO 13 (Spring 2004). To allow these modifications, the licensee requested approval of the use of (1) the ASCE 4-86 “100-40-40” method of combining components of seismic response loads, and (2) leak-before-break (LBB) methodology for the accumulator, pressurizer surge, and residual heat removal (RHR) lines to exclude the dynamic effects associated with large reactor coolant system branch line ruptures. The amendment approving the installation of the permanent access opening through the secondary shield wall and the use of LBB for the accumulator and RHR lines was issued April 12, 2004, and the opening was installed by the licensee in RO 13.

The Commission had previously issued a Notice of Consideration of Issuance of Amendment published in the Federal Register on July 22, 2003 (68 FR 43397) for the application for amendment dated June 27, 2003. However, by letters dated April 5 and July 2, 2004, the licensee withdrew portions of its amendment request. The letter dated April 5, 2004, revised the original request for application of LBB on the pressurizer surge line and the letter dated July 2, 2004, withdrew its request to use the ASCE 4-86 methodology. The Commission has previously issued a Notice of Partial Withdrawal of Application for Amendment published in the Federal Register on April 20, 2004 (69 FR 21166) for the letter dated April 5, 2004. This Notice of Partial Withdrawal of Application for Amendment is for the letter dated July 2, 2004.

For further details with respect to this action, see the application for amendment dated June 27, 2003, and the licensee's letter dated July 2, 2004, which partially withdrew the application for license amendment. Documents may be examined, and/or copied for a fee, at the NRC's Public Document Room (PDR), located at One White Flint North, Public File Area O1F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 20th day of July 2004.
For the Nuclear Regulatory Commission.
Jack Donohew,
Project Manager, Section 2, Project Directorate IV, Division of Licensing Project Management, Office of Nuclear Reactor Regulation.

[FR Doc. 04-17141 Filed 7-27-04; 8:45 am]

BILLING CODE 7590-01-P